DEPARTMENT OF COMMERCE

National Oceanic and Atmospheric Administration

RIN: 0648-XF11

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Seattle, WA.

DATES: The meetings will be held February 4-12, 2008. See SUPPLEMENTARY INFORMATION for specific dates and times.

ADDRESSES: The meetings will be held at the Renaissance Hotel, 515 Madison Street, Seattle, WA. See SUPPLEMENTARY INFORMATION for specific locations.

Council address: North Pacific Fishery Management Council, 605 W. 4th Avenue, Suite 306, Anchorage, AK 99501-2252.

FOR FURTHER INFORMATION CONTACT: David Witherell, Council staff, telephone: (907) 271-2809.

SUPPLEMENTARY INFORMATION: The Council will begin its plenary session at 8 a.m. on Wednesday, February 6 continuing through Tuesday February 12, 2008. The Council's Advisory Panel (AP) will begin at 8 a.m., Monday, February 4 and continue through Friday February 8. The Scientific and Statistical Committee (SSC) will begin at 8 a.m. on Monday, February 4 and continue through Wednesday February 6, 2008. The Data Collection Committee will meet Monday, February 4, from 5 p.m. to 7 p.m. in the Northwest Room. The Ecosystem Committee will meet Wednesday, February 6, from 1 p.m. to 5 p.m. in the Madison Room. The Enforcement Committee will meet Tuesday, February 5, from 1 p.m. to 5 p.m. in the James Room. All meetings are open to the public, except executive sessions.

Council Plenary Session: The agenda for the Council's plenary session will include the following issues. The Council may take appropriate action on any of the issues identified.

1. Reports

Executive Director's Report (including recommendations on operating procedures)

NMFS Management Report (legal issues re: Pacific cod jig sector State water management)

NMFS Enforcement/NOAA General Counsel Enforcement Report

U.S. Coast Guard Report

Alaska Department of Fish & Game Report

U.S. Fish & Wildlife Service Report

IPHC Report

Protected Species Report (including Aleutian Island Pollock Experimental Fishing Permit (EFP) report, Steller Sea Lion (SSL) consultation update, SSL Mitigation Committee progress report)

2. BSAI Crab Issues: Report from Crab Committee; action as necessary; Report on BSAI Crab data collection quality and confidentiality; Report on proposed economic analysis for program 3-year review; Initial review of BSAI “C” Share active participation; Initial review of BSAI Crab Arbitration Regulations; Discussion paper on BSAI Crab Arbitrator Immunity; Initial review St. George protection measures; Discussion paper on BSAI Crab loan eligibility

3. License Limitation Program (LLP) Trawl Recency: Initial review of EA/RIR/IRFA alternatives to address modifications to LLP requirements.

4. Amendment 80: Final action on Amendment 80 post-delivery transfers and rollovers.

5. Observer Program: Initial review of Observer Program regulation package.

6. American Fisheries Act: Review 2007 Co-op reports and 2008 co-op agreements.

7. CGOA Rockfish Program: Review 2007 Cooperative reports; Review outline for Pilot Program review.

8. Social and Economic Data Collection: Receive Committee report and action as necessary (T).

9. Bycatch Issues: Review EFP results; Review stream of origin information; Refine BSAI salmon bycatch alternatives; other action as necessary; Review GOA salmon and crab bycatch discussion paper (SSC only).

10. Groundfish Management: Initial review of GOA Other Species catch specifications; review discussion paper “Other Species” Management; Non-target Committee Report (Council only); Discussion paper on Vessel Monitor System (VMS) exemption for dinglebar gear (Council only); Report on BS and AI P cod area split; action as necessary; Initial review of 4E Seabird Avoidance measures; report on flatfish stock assessment Center for Independent Experts review (SSC only).

11. Ecosystem Issues: Preliminary review of Arctic FMP; action as necessary; Report from Ecosystem Committee; report on Alaska Marine Ecosystem Forum.

12. Staff Tasking: Review Committees and tasking, and take action as necessary; Review broader (PSEIS) community outreach plan and actions pursuant to the NMFS Policy on stakeholder participation.

13. Other Business

The SSC agenda will include the following issues:

1. Protected Species Report

2. BSAI Crab Issues

3. CGOA Rockfish

4. Data Collection

5. Bycatch Issues

6. Groundfish Management

7. Ecosystem Issues

The Advisory Panel will address the same agenda issues as the Council, except for #1 reports. The Agenda is subject to change, and the latest version will be posted at http://www.fakr.noaa.gov/npfmc/.

Special Accommodations

These meetings are physically accessible to people with disabilities. Requests for sign language interpretation or other auxiliary aids should be directed to Gail Bendixen at (907) 271-2809 at least 7 working days prior to the meeting date.

Dated: January 16, 2008.
Tracey L. Thompson,
Acting Director, Office of Sustainable Fisheries, National Marine Fisheries Service.

[FR Doc. E8-948 Filed 1-18-08; 8:45 am]

BILLING CODE 3510-22-S